DEPARTMENT OF THE INTERIOR

Bureau of Land Management

Notice of Availability of a Draft Environmental Impact Statement for the Bald Mountain Ski Resort Master Development Plan

AGENCY: Bureau of Land Management, Interior.

ACTION: Notice of Availability.

SUMMARY: In accordance with the Federal Land Policy and Management Act (FLPMA) and the National Environmental Policy Act (NEPA) the Bureau of Land Management publishes a Notice of Availability (NOA) of a Draft Environmental Impact Statement (DEIS) for the Bald Mountain Ski Resort Master Development Plan, the purpose of which is to analyze and disclose the effects of the updated Bald Mountain Ski Area Master Development Plan and 40-year term ski permit application.

DATES: The DEIS will be available for review and comment for 45 calendar days from the date of this publication which coincides with the NOA published in the Federal Register by the Environmental Protection Agency (EPA). The Forest Service and Bureau of Land Management (BLM) can best use comments and resource information if they are submitted by, or before, close of business the last day of the comment and review period. If you are uncertain as to what constitutes acceptable comment format or when comments are due, please contact Joe Miczulski, Winter Sports Manager at the Ketchum Ranger District; P.O. Box 2356, Ketchum, ID 83340; or phone at (208) 622-5371. Public meetings will be held to solicit comments on the DEIS on the update to the Master Development Plan for Bald Mountain Ski Resort. Dates and locations for these meetings will be published in the Idaho Mountain Express, Boise Statesman and Twin Falls Times News.

ADDRESSES: A copy of the DEIS was sent to affected Federal, State, and local government agencies and to interested parties. The document is also available electronically on the following Web site: http://www.fs.fed.us/r4/sawtooth/projects. Copies of the DEIS will be available for public inspection at the following locations: Ketchum Ranger District, 206 Sun Valley Road, Ketchum, ID 83340, Business Hours 8:30 a.m.-5 p.m.

FOR FURTHER INFORMATION CONTACT: John Kurtz, Outdoor Recreation Planner at the Shoshone Field Office of the Twin Falls District, 400 West F Street, Shoshone, ID 83352; or phone at (208) 732-7296. Requests for information may be sent electronically to: john_kurtz@blm.gov with “Attention: Bald Mountain DEIS Information Request” in the subject line.

SUPPLEMENTARY INFORMATION: The majority of Sun Valley Resort's Bald Mountain Ski Area is located on public lands under the jurisdiction of both the U.S.D.A. Forest Service (Forest Service) and the U.S.D.I. Bureau of Land Management (BLM). The ski area is administered through two jointly-issued Special Use Permits (SUP), totaling approximately 3,325 acres (1,969 of which are administered by the Sawtooth National Forest, and 1,356 are administered by the BLM's Twin Falls District).

Sun Valley Company has requested a new 40-year term ski area permit for the Bald Mountain Ski Resort. The existing ski area permit, which was issued in December 1977, expires December 2007. One requirement for a ski area permit is to have an approved Master Development Plan (MDP), which is prepared by the permit holder and encompasses the entire winter sports resort envisioned for development and authorization by the permit. Upon acceptance by the Authorized Officers, the MDP becomes part of the ski area permit. The EIS will analyze the effects of the proposed action and alternatives. The agencies give notice of the National Environmental Policy Act (NEPA) analysis and decision making process on the proposal so interested and affected members of the public may participate and contribute to the final decision. The Sawtooth National Forest, as the lead for both agencies, invites written comments and suggestions on the scope of the analysis and issues addressed.

The 1989 MDP currently guides the Forest Service and BLM in their administration of the special use permit for the ski area. A majority of the actions described in the 1989 MDP have been implemented. Given the age and status of the 1989 MDP, the Forest Service, BLM and Sun Valley Company determined that an updated plan would be appropriate at this time. The Sun Valley Company has updated their MDP for Bald Mountain Ski Area and presented it to the Forest Service and BLM in conjunction with their request for a new 40-year permit to continue operating on these public lands. The existing permit expires December 2007.

The draft MDP as submitted by Sun Valley Company is available electronically on the following Web sites: Sawtooth National Forest— http://www.fs.fed.us/r4/Sawtooth and Sun Valley Company— http://www.sunvalley.com. An approved MDP will guide development on Bald Mountain Ski Area. Anticipated projects include new ski trail development both inside and outside of the current permit boundary, additional snowmaking installation, existing ski run modification, installation of new ski lifts, including gondola, removal of some existing ski lifts, and addition of a mountain restaurant. A Vegetation Management Plan (VMP) will be analyzed concurrently with the proposed MDP. The VMP will access current conditions of vegetation components on Bald Mountain, both with respect to timber and grass/forb species. The VMP will specify treatments necessary to enact, that will ensure long-term health of vegetation on Bald Mountain.

Purpose and Need for Action

The purpose and need for the proposed Master Development Plan (MDP) is to update the 1989 MDP to reflect current conditions and needs at the ski resort. Most of the improvements described in the 1989 MDP have been implemented. In addition, new ski area technologies, updated Land Management Plans, and changes in the environment have emerged during this time which warrant consideration in an updated MDP.

Proposed Action

The proposed action analyzes the implementation of the MDP as submitted by the Sun Valley Company. The agencies have a responsibility to determine consistency of the MDP with their respective Land Management Plans, to evaluate if any proposed facilities are in hazardous areas (i.e. avalanche path); evaluate if improvements are an appropriate use of Forest Service and BLM land; determine if private land is available to accomplish the proposed activities; and to make a public interest determination.

Alternatives Identified

Alternatives identified include: Alt. 1—No Action (continuing the present course of action). The existing MDP would not be updated. The ski area permit would be renewed in 2007 and the current MDP would be made part of it. Alt. 2—Proposed Action, the MDP as submitted by Sun Valley Company, would be attached to a new ski area permit. Alt. 3—An alternative which meets the purpose and need to update the MDP, but varies from the actions submitted by Sun Valley Company.

How To Submit Comments

Comments must be submitted using one of the following methods:

1. Comments may be electronically mailed to comments-intermtn-sawtooth-ketchum@fs.fed.us with “Attention: Bald Mountain DEIS” in the subject line. Avoid the use of special characters or any form of encryption. If you do not receive a confirmation from our system that your comment has been received, please contact Joe Miczulski, Winter Sports Manager at the Ketchum Ranger District; P.O. Box 2356, Ketchum, ID 83340; or phone at (208)-622-5371.

2. Written comments may be mailed directly or delivered to the Forest Service at: Joe Miczulski, Winter Sports Manager at the Ketchum Ranger District; P.O. Box 2356, Ketchum, ID 83340; or phone at (208)-622-5371.

3. Comments may be sent via telefax to the Forest Service, Attn: Joe Miczulski, (208)-622-3923.

4. Comments may be given at the public meetings to be scheduled.

To be given consideration by BLM, all DEIS comments must include the commenter's name and street address. BLM's practice is to make all comments, including the names and street addresses of each respondent, available for public review at the BLM office listed above during business hours (7:45 a.m. to 4:30 p.m.), Monday through Friday, except for Federal holidays. Your comments may be published as part of the EIS process. Individual respondents may request confidentiality. If you wish to withhold your name, street address or both from public review or from disclosure under the Freedom of Information Act, you must state this prominently at the beginning of your written comments. Such requests will be honored to the extent allowed by law. BLM will not consider anonymous comments. All submissions from organizations or businesses will be made available for public inspection in their entirety.

Howard Hedrick,
District Manager.

[FR Doc. E7-3083 Filed 2-22-07; 8:45 am]

BILLING CODE 4310-GG-P